DEPARTMENT OF TRANSPORTATION

Federal Highway Administration

[Docket No. FHWA-2004-17256]

Agency Information Collection Activities; Request for Comments; Renewed Approval of Eight Information Collections

AGENCY: Federal Highway Administration (FHWA), DOT.

ACTION: Notice and request for comments.

SUMMARY: The FHWA invites public comments about our intention to request the Office of Management and Budget's (OMB) approval to renew eight information collections, which are summarized below under Supplementary Information. We are required to publish this notice in the Federal Register by the Paperwork Reduction Act of 1995.

DATES: Please submit comments by June 7, 2004.

ADDRESSES: You may submit comments identified by DOT DMS Docket Number FHWA-2004-17256 by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, D.C., between 9 a.m. and 5 p.m., Monday through Friday, except Federal holidays.

SUPPLEMENTARY INFORMATION: 1. Title: Structure Inventory and Appraisal Sheet.

OMB Control Number: 2125-0501 (Expiration Date: July 31, 2004).

Abstract: The collection of the bridge information contained on the Structure Inventory and Appraisal Sheet (SI&A) is necessary to satisfy the requirements of Title 23 United States Code 144 and 151, and the Code of Federal Regulations, 23 Highways—Part 650, Subpart C—National Bridge Inspection Standards (NBIS) and Subpart D—Highway Bridge Replacement and Rehabilitation Program. The NBIS requires bridge inspection and reporting at regular intervals for all bridges located on public roads. The NBIS information is used as a basis for setting priorities for the replacement or rehabilitation of bridges under the Highway Bridge Replacement and Rehabilitation Program (HBRRP) and for apportioning HBRRP funds to the States for bridge replacement or rehabilitation. In addition, the information is used for strategic national defense needs and for preparing the report to Congress on the status of the Nation's highway bridges and funding under the HBRRP.

Respondents: 52 State Transportation Departments, including the District of Columbia and Puerto Rico.

Frequency: Biannual inspections and annual reporting.

Estimated Total Annual Burden: 540,000 hours. The average burden is two hours to complete each SI&A sheet on the approximate 300,000 bridges that are inspected annually. The total bridge inventory (rounded to 600,000) requires biannual inspections. Some States voluntarily inspect bridges more frequently; however, these estimates do not include this information.

FOR FURTHER INFORMATION CONTACT: Ms. Ann Shemaka, 202-366-1575, Department of Transportation, Federal Highway Administration, Office of Infrastructure, Office of Bridge Technology, 400 Seventh Street, SW., Washington, DC 20590. Office hours are from 7:30 a.m. to 4:30 p.m., Monday through Friday, except Federal holidays.

2. Title: Planning and Research Program Administration.

OMB Control Number: 2125-0039 (Expiration Date: July 31, 2004).

Abstract: Under the provisions of Title 23, United States Code, Section 505, two percent of Federal-aid highway funds in certain categories that are apportioned to the States are set aside to be used only for State Planning and Research (SPR funds). At least 25 percent of the SPR funds apportioned annually must be used for research, development, and technology transfer activities. In accordance with government-wide grant management procedures, a grant application must be submitted for these funds. In addition, recipients must submit periodic progress and financial reports. In lieu of Standard Form 424, Application for Federal Assistance, the FHWA uses a work program as the grant application. This includes a scope of work and budget for activities to be undertaken with FHWA planning and research funds during the next one- or two-year period. The information contained in the work program includes task descriptions, assignments of responsibility for conducting the work effort, and estimated costs for the tasks. This information is necessary to determine how FHWA planning and research funds will be utilized by the State Transportation Departments and if the proposed work is eligible for Federal participation. The content and frequency of submission of progress and financial reports specified in 23 CFR Part 420 is as specified in OMB Circular A-102 and the companion common grant management regulations.

Respondents: 52 State Transportation Departments, including the District of Columbia and Puerto Rico.

Estimated Total Annual Burden: 29,120 hours (560 hours per respondent).

FOR FURTHER INFORMATION CONTACT: Mr. Tony Solury, 202-366-5003, Department of Transportation, Federal Highway Administration, Office of Planning, Environment, and Realty, 400 Seventh Street, SW., Washington, DC 20590. Office hours are from 7:30 a.m. to 4:30 p.m., Monday through Friday, except Federal holidays.

3. Title: Heavy Vehicle Travel Information System (HVTIS).

OMB Control Number: 2125-0587 (Expiration Date: July 31, 2004).

Abstract: Title 49, United States Code, Section 301, authorizes the Department of Transportation (DOT) to collect statistical information relevant to domestic transportation. Title 23, United States Code, Section 307, authorizes the DOT to engage in studies to collect data for planning future highway programs. The FHWA has developed the HVTIS to house data that would be used to analyze the amount and nature of truck travel at the national and regional levels. The information would be used by the FHWA and other DOT administrations to evaluate changes in truck travel in order to assess: impacts on highway safety; the role of travel in economic productivity; and the impacts of changes in truck travel on infrastructure condition; and to maintain our mobility while protecting the human and natural environment. The increasing dependence on truck transportation requires that data be available to better assess its overall contribution to the Nation's well-being. In conducting the data collection, the FHWA will request the State Departments of Transportation to provide periodic reporting of vehicle classification and weight data, which they collect as part of their existing traffic data collection programs. The majority of States collect this vehicle weight data periodically throughout the year using weigh-in-motion devices and the States also continuously collect vehicle classification data. The data will allow transportation professionals at the Federal, state and metropolitan levels to make informed decisions about policies and plans.

Respondents: 51 State Transportation Departments, including the District of Columbia.

Frequency: Continuous vehicle classification and total volume data will be reported on a monthly basis to assure timely information that can be compared to monthly reports of economic activity. Based on data collection practices in common use by the State Transportation Departments, truck weight data collected using weigh-in-motion devices and site description data will be submitted to FHWA annually.

Estimated Average Burden per Response: The average State Transportation Department operates 40 continuous vehicle classification installations, 10 total volume sites, and 10 truck weight (weigh-in-motion) sites. It is estimated that the additional processing necessary to make 48 hours of weigh-in-motion data available to FHWA would be 6 minutes per site per year, processing the site description data would take 1 minute per site per year, processing one month of vehicle classification data would take 5 minutes per site per month, and processing one month of total volume data would take 4 minutes per site per month.

Estimated Total Annual Burden Hours: 50 per State; 2,550 total.

FOR FURTHER INFORMATION CONTACT: Mr. Ralph Gillmann, 202-366-0160, Department of Transportation, Federal Highway Administration, Office of Highway Policy Information, 400 Seventh Street, SW., Washington, DC 20590. Office hours are from 8 a.m. to 4:30 p.m., Monday through Friday, except Federal holidays.

4. Title: Bid Price Data.

OMB Control Number: 2125-0010 (Expiration Date: June 30, 2004).

Abstract: Information collected on Form FHWA-45, Bid Price Data, is needed for the FHWA to monitor trends in purchasing power of the Federal-aid construction dollar. FHWA follows these trends so that changes in highway construction prices can be measured and funding level recommendations to Congress can be justified. The Federal share of the cost of certain projects constructed by the States in advance of regular apportionments is adjusted based on the bid price index (Title 23 United States Code 115). Form FHWA-45 is prepared for Federal-aid highway construction contracts greater than $0.5 million in the 50 States plus Washington, DC, and Puerto Rico. Data is reported on six major items of highway construction, together with the total materials and labor costs of the project, taken from the bid tabulation of construction items submitted by the lowest or winning bidder to the State Transportation Department. The State Transportation Departments furnish copies of the bid tabulation to the FHWA that uses the data to produce the national FHWA bid price index and related statistics.

Respondents: 52 State Transportation Departments, including the District of Columbia and Puerto Rico.

Frequency: The data is collected by the States and submitted to FHWA one time, within two weeks after the project has been awarded.

Estimated Total Annual Burden: 975 hours. There are approximately 1,300 annual projects that require about 37 of the State DOTs to complete the form. It takes an average of 45 minutes for each form.

FOR FURTHER INFORMATION CONTACT: Ms. Claretta Duren, 202-366-4636, Department of Transportation, Federal Highway Administration, Office of Pavement Technology, 400 Seventh Street, SW., Washington, DC 20590. Office hours are from 7:30 a.m. to 4:30 p.m., Monday through Friday, except Federal holidays.

5. Title: Highway Safety Improvement Programs.

OMB Control Number: 2125-0025 (Expiration Date: May 31, 2004).

Abstract: Under Sections 130(g) and 152(g) of Title 23, United States Code, each State is required to report annually to the Secretary of Transportation on the progress being made in implementing the Highway Safety Improvement Programs (Highway-Rail Grade Crossings and Hazard Elimination) and on the effectiveness of these programs. This information provides FHWA with a means for monitoring the effectiveness of these programs. It will also be used by the Congress for determining funding levels for the Highway Safety Improvement Programs and for modifying these programs. States are also required under Sections 130(d) and 152(a) of Title 23 to conduct and systematically maintain surveys to identify highway-rail grade crossings in need of improvements and to identify hazardous highway locations, sections, and elements. These surveys are the basis for establishing priorities for corrective measures, for scheduling improvements, and for evaluating the effectiveness of improvements. The States collect safety information by surveying highway-rail grade crossings and public roads for potential safety hazards. In addition, motor vehicle crash data, traffic volume data, and other highway inventory data are used by the States to identify hazards and determine which hazards would be the most cost-effective to improve.

Respondents: 52 State Transportation Departments, including the District of Columbia and Puerto Rico.

Frequency: Annually.

Estimated Total Annual Burden: 10,400 hours. It is estimated that each State, the District of Columbia and Puerto Rico spend 200 hours to provide this information to the FHWA.

FOR FURTHER INFORMATION CONTACT: Mr. Kenneth Epstein, 202-366-2157, Department of Transportation, Federal Highway Administration, Office of Safety, 400 Seventh Street, SW., Washington, DC 20590. Office hours are from 7:30 a.m. to 4:30 p.m., Monday through Friday, except Federal holidays.

6. Title: Emergency Relief Funding Applications.

OMB Control Number: 2125-0525 (Expiration Date: May 31, 2004).

Abstract: Section 125 of Title 23 United States Code requires States to submit applications to the FHWA for Emergency Relief (ER) funds. The ER funds are established for the repair or reconstruction of Federal-aid highways and Federal roads, which have suffered serious damage by natural disasters over a wide area or serious damage from catastrophic failures. The information is needed for the FHWA to fulfill its statutory obligations regarding funding determinations on emergency work to repair highway facilities. The requirements covering the FHWA ER program are contained in 23 CFR Part 668.

Respondents: 52 State Transportation Departments, including the District of Columbia and Puerto Rico.

Frequency: As required.

Estimated Total Annual Burden: 6,000 hours. 200 hours per application for an average of 30 annual applications.

FOR FURTHER INFORMATION CONTACT: Mr. Greg Wolf, 202-366-4655, Department of Transportation, Federal Highway Administration, Office of Program Administration, 400 Seventh Street, SW., Washington, DC 20590. Office hours are from 7:45 a.m. to 4:15 p.m., Monday through Friday, except Federal holidays.

7. Title: Preparation and Execution of the Project Agreement and Modifications.

OMB Control Number: 2125-0529 (Expiration Date: June 30, 2004).

Abstract: Formal agreements between State Transportation Departments and the FHWA are required for Federal-aid highway projects. These agreements, referred to as “project agreements” are written contracts between the State and the Federal government that define the extent of work to be undertaken and commitments made concerning a highway project. Section 1305 of the Transportation Equity Act for the 21st Century (TEA-21, Public Law 105-178) amended 23 U.S.C. 106(a) and combined authorization of work and execution of the project agreement for a Federal-aid project into a single action. States continue to have the flexibility to use whatever format is suitable to provide the statutory information required, and burden estimates for this information collection are not changed.

Respondents: There are 56 respondents, including 50 State Transportation Departments, the District of Columbia, the Commonwealth of Puerto Rico, the Commonwealth of the Northern Mariana Islands, and the Territories of Guam, the Virgin Islands and American Samoa.

Estimated Total Annual Burden: 12,040 hours. There are an average of 215 annual agreements per respondent. Each agreement requires approximately one hour to complete.

FOR FURTHER INFORMATION CONTACT: Mr. Don West, 202-366-4652, Department of Transportation, Federal Highway Administration, Office of Pavement Technology, 400 Seventh Street, SW., Washington, DC 20590. Office hours are from 7:30 a.m. to 4:30 p.m., Monday through Friday, except Federal holidays.

8. Title: Drug Offender's Drivers' License Suspension Certification.

OMB Control No: 2125-0579 (Expiration Date: June 30, 2004).

Abstract: States are legally required to enact and enforce laws that revoke or suspend the drivers' licenses of any individual convicted of a drug offense and to make annual certifications to the FHWA on their actions. The implementing regulations of the Department of Transportation and Related Agencies Appropriation Act, 1993 (Pubic Law 102-388, October 6, 1992) require annual certifications by the Governors. In this regard, the State must submit by January 1 of each year either a written certification, signed by the Governor, stating that the State is in compliance with 23 U.S.C. 159; or a written certification stating that the Governor is opposed to the enactment or enforcement, and that the State legislature has adopted a resolution expressing its opposition to 23 U.S.C. 159.

Beginning in fiscal year 1996, States' failure to comply by October 1 of each fiscal year resulted in a withholding penalty of 10-percent from major categories of Federal-aid funds (i.e., National Highway System, Surface Transportation Program and Interstate) from States' apportionments for the fiscal year. Any funds withheld in FY 1996 and thereafter cannot be restored and will be redistributed.

Respondents: 50 States and the District of Columbia and Puerto Rico.

Estimated Annual Burden Hours: Annual average of 5 hours for each respondent; 260 total annual burden hours.

FOR FURTHER INFORMATION CONTACT: John Balser, 202-366-9212, Department of Transportation, Federal Highway Administration, Office of Safety, 400 Seventh Street, SW., Washington, DC 20590. Office hours are from 7:30 a.m. to 5 p.m., Monday through Friday, except Federal holidays.

Public Comments Invited: You are asked to comment on any aspect of these information collections, including: (1) Whether the proposed collections are necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of these information collections.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: The Paperwork Reduction Act of 1995; 44 U.S.C. Chapter 35, as amended; and 49 CFR 1.48.

James R. Kabel,
Chief, Management Programs and Analysis Division.

[FR Doc. 04-7961 Filed 4-7-04; 8:45 am]

BILLING CODE 4910-22-P